DEPARTMENT OF HOMELAND SECURITY

Coast Guard

33 CFR Part 100

[Docket No. USCG-2024-0642]

Special Local Regulations; Marine Events Within the Seventh Coast Guard District

AGENCY: Coast Guard, DHS.

ACTION: Notification of enforcement of regulation.

SUMMARY: The Coast Guard will enforce special local regulations for the Alligator Reef Lighthouse Swim on September 7, 2024, to provide for the safety of life on the navigable waterways during this event. Our regulation for marine events within the Seventh Coast Guard District identifies the regulated area for this event in Islamorada, FL. During the enforcement period, the operator of any vessel in the regulated area must comply with directions from the Patrol Commander or any Official Patrol displaying a Coast Guard ensign.

DATES: The regulation in 33 CFR 100.701 will be enforced for the Alligator Reef Lighthouse Swim regulated area listed in item 4, in Table 1 to § 100.701 paragraph (b), from 7:30 a.m. until 4 p.m., on September 7, 2024.

FOR FURTHER INFORMATION CONTACT: If you have questions on this notice, call or email Hayden Hunt, Sector Key West Waterways Management Department, Coast Guard; telephone 305-292-8823; email Hayden.B.Hunt@uscg.mil.

SUPPLEMENTARY INFORMATION: The Coast Guard will enforce special local regulations in 33 CFR 100.701 for the Alligator Reef Lighthouse Swim regulated area identified in Table to § 100.701, paragraph (b), item (4), from 7:30 a.m. through 4 p.m. on September 7, 2024. This action is being taken to provide for the safety of life on navigable waterways during this event. Our regulation for marine events, within the Seventh Coast Guard District Table to § 100.701, paragraph (b), item (4), specifies the location of the regulated area for the Alligator Reef Lighthouse Swim. Under the provisions of § 100.100(c), no person or vessel may enter, transit through, anchor in, or remain within the established regulated areas without approval from the Captain of the Port Key West or designated representative. The Coast Guard may be assisted by other Federal, State, or local law enforcement agencies in enforcing this regulation.

The Coast Guard will provide notice of the regulated area by Local Notice to Mariners and Broadcast Notice to Mariners. If the Captain of the Port Key West determines that the regulated area need not be enforced for the full duration stated in this publication, he or she may use a Broadcast Notice to Mariners to grant general permission to enter the regulated area.

Dated: August 9, 2024.
Jason. D. Ingram,
Captain, U.S. Coast Guard, Captain of the Port Key West.

[FR Doc. 2024-18163 Filed 8-13-24; 8:45 am]

BILLING CODE 9110-04-P